DEPARTMENT OF VETERANS AFFAIRS

Joint Biomedical Laboratory Research and Development and Clinical Science Research and Development Services Scientific Merit Review Board; Notice of Meetings

The Department of Veterans Affairs gives notice under the Public Law 92-463 (Federal Advisory Committee Act) that the subcommittees of the Joint Biomedical Laboratory Research and Development and Clinical Science Research and Development Services Scientific Merit Review Board will meet from 8 a.m. to 5 p.m. on the dates indicated below:

Subcommittee for | Date(s) | Location
Neurobiology-E | May 12, 2009 | VA Central Office.*
Cellular & Molecular Medicine | May 13, 2009 | VA Central Office.*
Nephrology | May 14, 2009 | Crowne Plaza DC/Silver Spring.
Surgery | May 18, 2009 | St. Gregory Luxury Hotel & Suites.
Endocrinology-A | May 22, 2009 | St. Gregory Luxury Hotel & Suites.
Immunology | May 22, 2009 | Embassy Suites Chevy Chase.
Mental Hlth & Behav Sci-B | May 28, 2009 | The Westin Washington DC.
Hematology | May 29, 2009 | The Westin Washington DC.
Clinical Research Program | June 1, 2009 | VA Central Office.*
Epidemiology | June 3, 2009 | VA Central Office.*
Infectious Diseases-B | June 4, 2009 | Crowne Plaza DC/Silver Spring.
Neurobiology-A | June 5, 2009 | VA Central Office.*
Respiration | June 5, 2009 | The Westin Washington DC.
Cardiovascular Studies | June 8, 2009 | The Westin Washington DC.
Endocrinology-B | June 9, 2009 | Palomar Hotel.
Oncology | June 11-12, 2009 | The Ritz-Carlton, Washington, DC.
Gastroenterology | June 11, 2009 | The Westin Washington DC.
Mental Hlth & Behav Sci-A | June 15, 2009 | The Ritz-Carlton, Washington, DC.
Neurobiology-C | June 18-19, 2009 | Hilton Garden Inn.
Infectious Diseases-A | June 18, 2009 | Palomar Hotel.
Neurobiology-D | June 19, 2009 | The Westin Washington DC.
The addresses of the hotels and VA Central Office are:
Crowne Plaza DC/Silver Spring, 8777 Georgia Avenue, Silver Spring, MD.
Embassy Suites Chevy Chase Pavilion, 4300 Military Road, NW., Washington, DC.
Hilton Garden Inn, 815 14th Street, NW., Washington, DC.
Palomar Hotel, 2121 P Street, NW., Washington, DC.
The Ritz-Carlton Washington DC, 1150 22nd Street, NW., Washington, DC.
St. Gregory Hotel, 2033 M Street, NW., Washington, DC.
VA Central Office, 1722 Eye Street, NW., Washington, DC.
The Westin Washington DC City Center Hotel, 1400 M Street, NW., Washington, DC.
*Teleconference.

The purpose of the Merit Review Board is to provide advice on the scientific quality, budget, safety and mission relevance of investigator-initiated research proposals submitted for VA merit review consideration. Proposals submitted for review by the Board involve a wide range of medical specialties within the general areas of biomedical, behavioral and clinical science research.

The subcommittee meetings will be open to the public for approximately one hour at the start of each meeting to discuss the general status of the program. The remaining portion of each subcommittee meeting will be closed to the public for the review, discussion, and evaluation of initial and renewal research proposals.

The closed portion of each meeting involves discussion, examination, reference to staff and consultant critiques of research proposals. During this portion of each meeting, discussion and recommendations will deal with qualifications of personnel conducting the studies, the disclosure of which would constitute a clearly unwarranted invasion of personal privacy, as well as research information, the premature disclosure of which could significantly frustrate implementation of proposed agency action regarding such research proposals.

As provided by subsection 10(d) of Public Law 92-463, as amended, closing portions of these subcommittee meetings is in accordance with 5 U.S.C., 552b(c)(6) and (9)(B). Those who plan to attend or would like to obtain a copy of minutes of the subcommittee meetings and rosters of the members of the subcommittees should contact LeRoy G. Frey, PhD, Chief, Program Review (121F), Department of Veterans Affairs, 810 Vermont Avenue, NW., Washington, DC 20420 at (202) 461-1664.

Dated: April 10, 2009.
By Direction of the Secretary.
E. Philip Riggin,
Committee Management Officer.

[FR Doc. E9-8973 Filed 4-17-09; 8:45 am]

BILLING CODE 8320-01-P